DEPARTMENT OF THE TREASURY

Submission for OMB Review; Comment Request

March 22, 2004.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before May 3, 2004 to be assured of consideration.

Bureau of the Public Debt (PD)

OMB Number: 1535-0091.

Form Number: None.

Type of Review: Extension.

Title: Regulations Governing U.S. Treasury Certificates of Indebtedness—State and Local Government.

Description: Regulations authorizing the issuing of U.S. Treasury Bonds, Notes, and Certificated of Indebtedness of the State and Local Government Series.

Respondents: State, Local or Tribal Government.

Estimated Number of Respondents: 1,000.

Estimated Burden Hours Per Respondent: 10 minutes.

Frequency of Response: On occasion.

Estimated Total Reporting Burden Hours: 167 hours.

OMB Number: 1535-0092.

Form Number: PD F 4144, 4144-1, 4144-2, 4144-5, 4144-6, 4144-7 and 4144-8.

Type of Review: Extension.

Title: Subscription for Purchases and Issue of U.S. Treasury Securities—State and Local Government Series.

Description: The information is necessary to establish the accounts of owners of securities of State and Local Government Series.

Respondents: State, Local or Tribal Government.

Estimated Number of Respondents: 5,000.

Estimated Burden Hours Per Respondent: 30 minutes.

Frequency of Response: On occasion.

Estimated Total Reporting Burden Hours: 2,500 hours.

Clearance Officer: Vicki S. Thorpe, (304) 480-6553, Bureau of the Public Debt, 200 Third Street, Parkersburg, West VA 26106-1328.

OMB Reviewer: Joseph F. Lackey, Jr., (202) 395-7316, Office of Management and Budget, Room 10235, New Executive Office Building, Washington, DC 20503.

Lois K. Holland,
Treasury PRA Clearance Officer.

[FR Doc. 04-7266 Filed 3-31-04; 8:45 am]

BILLING CODE 4810-39-P